DEPARTMENT OF HEALTH AND HUMAN SERVICES

National Institutes of Health

Proposed Collection; Comment Request; Collection of Customer Service, Demographic, and Smoking/Tobacco Use Information From the National Cancer Institute's Cancer Information Service (CIS) Clients (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Collection of Customer Service, Demographic, and Smoking/Tobacco Use Information from the National Cancer Institute's Cancer Information Service (CIS) Clients (NCI). Type of Information Collection Request: Revision of currently approved collection 0925-0208 (expiration 08/30/2012). Need and Use of Information Collection: The National Cancer Institute's Cancer Information Service (CIS) provides the latest information on cancer, clinical trials, and tobacco cessation in English and Spanish. Clients are served by calling 1-800-4-CANCER for cancer information; 1-877-44U-QUIT for smoking cessations services; using the NCI's LiveHelp, a web-based chat service; using NCI's Contact Us page on www.cancer.gov; and using NCI's Facebook page. CIS currently conducts a brief survey of a sample of telephone and LiveHelp clients at the end of usual service—a survey that includes three customer service and twelve demographic questions (age, sex, race, ethnicity, education, household income, number in household, and five questions about health care/coverage). Characterizing clients and how they found out about the CIS is essential to customer service, program planning, and promotion. The NCI also conducts a survey of individuals using the CIS's smoking cessation services—a survey that includes 20 smoking/tobacco use “intake” questions that serve as a needs assessment that addresses smoking history, previous quit attempts, and motivations to quit smoking. An additional question is used with callers who want to receive proactive call-back services. Responses to these questions enable Information Specialists to provide effective individualized counseling. The NCI's CIS also responds to cancer-related inquiries to its Facebook page and its Contact Us form on www.cancer.gov but does not collect customer service or demographic questions on these access channels. Frequency of Response: Once. Affected Public: Individuals or households. Type of Respondents: People with cancer; their relatives and friends; and general public, including smokers/tobacco users. Annualized estimates for numbers of respondents and respondent burden are presented in Table 1.

Table 1—Estimate of Annual Burden Hours
Type of respondents | Survey instrument | Number of respondents | Frequency of responses | Average time per response (minutes/hour) | Annual burden hours
Telephone Clients
| Customer Service | 67,400 | 1 | 1/60 | 1,123
| Demographic Questions | 24,300 | 1 | 2/60 | 810
Smoking Cessation “Quitline” Clients
Reactive Service Clients | Smoking Cessation “Intake” Questions | 4,200 | 1 | 5/60 | 350
| Demographic Questions | 1,300 | 1 | 2/60 | 43
Proactive Callback Service Clients | Follow-Up | 1,000 | 4 | 1/60 | 67
LiveHelp Clients ⁴
| Demographic questions | 7,800 | 1 | 2/60 | 260
Total |  |  |  |  | 2,653

The annual number of responses is estimated to be 109,000 and the annualized cost to the respondents is estimated at $93,185. There are no Capital Costs, Operating Costs, and/or Maintenance Costs to report.

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Mary Anne Bright, Associate Director, Office of Public Information and Resource Management, Office of Communications and Education, National Cancer Institute, 6116 Executive Blvd., Room 3023, MSC 8322, Bethesda, MD 20892-8322 or call 301-594-9048 or email your request, including your address, to: brightma@mail.nih.gov.

Comments Due Date: Comments regarding this information collection are best assured of having their full effect if received within 60 days of the date of this publication.

Dated: May 18, 2012.
Vivian Horovitch-Kelley,
NCI Project Clearance Liaison, National Institutes of Health.

[FR Doc. 2012-12654 Filed 5-23-12; 8:45 am]

BILLING CODE 4140-01-P